DEPARTMENT OF THE INTERIOR

Office of Surface Mining Reclamation and Enforcement

30 CFR Part 935

[SATS No. OH-263-FOR; Docket ID: OSM-2021-0002; S1D1S SS08011000 SX064A000 252S180110; S2D2S SS08011000 SX064A000 25XS501520]

Ohio Regulatory Program

AGENCY: Office of Surface Mining Reclamation and Enforcement, Interior.

ACTION: Final rule; approval of amendment.

SUMMARY: We, the Office of Surface Mining Reclamation and Enforcement (OSMRE), are approving an amendment to the Ohio regulatory program (Ohio program) under the Surface Mining Control and Reclamation Act of 1977 (SMCRA or the Act). The amendment revises Ohio's regulations to remove the requirement that a coal mining permit application include either the employment identification number or the last four digits of the Social Security number of a resident agent.

DATES: The effective date is December 17, 2025.

FOR FURTHER INFORMATION CONTACT: Thomas J. Koptchak, Field Office Director, Pittsburgh Field Office, Office of Surface Mining Reclamation and Enforcement, 3 Parkway Center, Pittsburgh, PA 15220; Telephone: (202) 513-7685; Email: tkoptchak@osmre.gov.

SUPPLEMENTARY INFORMATION:

I. Background on the Ohio Program

II. Submission of the Amendment

III. OSMRE's Findings

IV. Summary and Disposition of Comments

V. OSMRE's Decision

VI. Statutory and Executive Order Reviews

I. Background on the Ohio Program

Section 503(a) of the Act permits a State to assume primacy for the regulation of surface coal mining and reclamation operations on non-Federal and non-Indian lands within its borders by demonstrating that its approved State program includes, among other things, State laws and regulations that govern surface coal mining and reclamation operations in accordance with the Act and consistent with the Federal regulations. See 30 U.S.C. 1253(a)(1) and (7). On the basis of these criteria, the Secretary of the Interior conditionally approved the Ohio program on August 10, 1982 (effective August 16, 1982). You can find background information on the Ohio program, including the Secretary's findings, the disposition of comments, and conditions of approval of the Ohio program in the August 10, 1982, Federal Register (47 FR 34717). You can also find later actions concerning the Ohio program and program amendments at 30 CFR 935.10, “State regulatory program approval;” 935.11, “Conditions of State regulatory program approval;” and 935.15, “Approval of Ohio regulatory program amendments.”

II. Submission of the Amendment

By letter dated January 8, 2021 (Administrative Record No. OH 2199.01), Ohio sent us a proposed amendment to the Ohio program. The proposed amendment would revise the Ohio program regulations at Ohio Administrative Code (OAC) sections 1501:13-4-03 and 1501:13-5-01. The proposed amendment seeks to: (1) remove the requirement that a coal mining permit application include the employer identification number or the last four digits of the Social Security number (SSN) of a resident agent listed in the application; and (2) make one unrelated editorial correction.

We announced receipt of the proposed amendment in the Federal Register on April 28, 2021 (86 FR 22370). In the same document, we opened the public comment period and provided an opportunity for a public hearing or meeting on the adequacy of the amendment. No hearing or meeting was requested, and, therefore, neither was held. The public comment period ended on May 28, 2021. We received no comments.

III. OSMRE's Findings

The following are the findings we made concerning the amendment under SMCRA and the Federal regulations at 30 CFR 732.15 and 732.17. As described below, we are approving the amendment.

OAC 1501:13-4-03 Permit Applications; Requirements for Legal, Financial, Compliance and Related Information

Ohio has proposed revising the regulations at OAC 1501:13-4-03(B)(1) by removing resident agent from the list of persons for whom a coal mining permit application must provide either an employer identification number or the last four digits of an SSN. Additionally, Ohio has proposed amending OAC 1501:13-4-03(B)(4) to require that each application other than a single proprietorship contain the name, address, and telephone numbers of the resident agent of the applicant who will accept service of process.

The requirement that an application provide an employer identification number or SSN for a listed resident agent was first proposed in the Federal regulations on May 28, 1987 (52 FR 20032) and finalized in our rulemaking on March 2, 1989 (54 FR 8982), which was commonly referred to as the “permit information rule.” That rulemaking revised section 30 CFR 778.13, “Identification of interests,” to add the SSN or employer identification number requirement along with a list of other persons or entities other than the applicant that would be required to provide this additional information. In that rule, we also explained that, because a taxpayer identification number (TIN) can either be a SSN or an employer identification number, we replaced “taxpayer identification number” from the proposed rule with the term “employer identification number” to avoid confusion. See id. at 8983.

After the new rules were published, the rulemaking became the subject of litigation, which resulted in the U.S. Court of Appeals for the D.C. Circuit invalidating our 1989 permit information rule in its entirety on grounds unrelated to the provision at issue here. See National Mining Ass'n v. Interior, 105 F.3d 691 (D.C. Cir. 1997).

We subsequently announced a new proposed rule in the Federal Register on December 21, 1998 (63 FR 70580). During the public comment period, we received comments stating that collection of this information would be burdensome for many of the listed parties, and commenters also challenged the legality of the provisions. In response, we removed in the final rule the resident agent from the list of those entities for which an application was required to provide an employer identification number or SSN. The final rule published on December 19, 2000 (65 FR 79582).

As part of the revision, this section was renumbered from section 778.13 to section 778.11 and renamed “Providing applicant and operator information.” In 30 CFR 778.11, we required simply the taxpayer identification number, explaining that this term means the SSN, for individuals and the employer identification number for businesses.

Ohio is making these changes to the OAC to mirror the revised Federal regulations at 30 CFR 778.11. After the proposed provisions are revised, a resident agent will remain on the list of entities that need to provide contact information for permitting purposes under the addition to subsection (B)(4). The permit application will no longer be required to include the registered agent's employer identification number or the last four digits of their SSN. Ohio also asserts that this information is not necessary for its own purposes, and, therefore, the proposed revisions would make no changes that affect its approved program.

OSMRE Finding: We have determined that the revised provisions OAC 1501:13-4-03(B)(1) and (B)(4) are substantively identical to, and, therefore, no less effective than, the Federal regulations at 30 CFR 778.11. With these changes Ohio seeks consistency with the Federal regulations and is simplifying the permitting process by removing unnecessary information from the application. Therefore, we are approving the revisions to OAC 1501:13-3-03.

Additionally, while reviewing this amendment we noticed that we have not before specifically addressed several minor revisions to subsection (B) that Ohio made in 2009. Those revisions clarified that an application need only include the employer identification number or the last four digits of the SSN for those relevant persons, rather than requiring the employer identification number for those relevant persons and allowing the application to include the SSN only for those who choose to provide them.

In our last two approvals of revisions to OAC 1501:13-4-03, which both pre-date and post-date Ohio's 2009 revisions and our 2000 rulemaking, we found those provisions to be consistent with the Federal regulations. On April 19, 1991, we found that OAC 1501:13-4-03(B)(1) through (11) were “identical in meaning” to the corresponding Federal regulations. See 56 FR 16004 (Apr. 19, 1991). In 2015, following a complete side-by-side review of Ohio's regulations (that included Ohio's 2009 revisions) compared with the Federal counterpart provisions, we elaborated in our findings that “[t]here are a few changes not addressed in the Findings because they involve minor clarifications or non-substantive corrections.” 80 FR 63120 (Oct. 19, 2015). To remove any doubt as to the effectiveness of OAC 1501:13-4-03 as currently phrased, and to reiterate that providing full or partial SSNs is not necessary in all cases, we clarify now that Ohio's 2009 revisions were “minor clarifications or non-substantive corrections” referenced in our 2015 approval.

OAC 1501:13-5-01 Review, Public Participation, and Approval or Disapproval of Permit Applications and Permit Terms and Conditions

Ohio is also proposing to make a non-substantive change to a reference contained within OAC 1501:13-5-01(E)(6). In response to amendments passed by Ohio's State legislature in House Bill 64 (HB 64) (approved June 30, 2015), 2015 Ohio Laws 11, Ohio added a new paragraph to its regulations at OAC 1501:13-4-03(D)(2). This addition is the subject of a separate program amendment, OH-256-FOR, which is pending approval with OSMRE. See 85 FR 10638 (Feb. 25, 2020). If approved by OSMRE, the provision currently known as 1501:13-4-03(D)(2) will become 1501:13-4-03(D)(3). In anticipation of this approval and subsequent renumbering, Ohio has proposed to revise an existing reference to the renumbered section at OAC 1501:13-5-01(E)(6).

OSMRE Finding: We do not typically need to approve editorial updates to internal cross-references because either the reference update occurs when we approve the underlying substantive revisions or the prior reference was merely a typographical error and, therefore, its fix is not a change to the approved State program. Because the reference here relies on our decision on OH-256-FOR, we will, if necessary, address this cross-reference in our future decision on that amendment.

IV. Summary and Disposition of Comments

Public Comments

We asked for public comments on the amendment but received none.

Federal Agency Comments

On January 11, 2021, under 30 CFR 732.17(h)(11)(i) and section 503(b) of SMCRA, we requested comments on the amendment from various Federal agencies with an actual or potential interest in the Ohio program (Administrative Record No. OH 2199.02). We did not receive any comments.

V. OSMRE's Decision

Based on the above findings, we are approving Ohio's program amendment sent to us on January 8, 2021 (Administrative Record No. OH 2199.01).

To implement this decision, we are amending the Federal regulations at 30 CFR part 935 that codify decisions concerning the Ohio program. In accordance with the Administrative Procedure Act, this rule will take effect 30 days after the date of publication.

VI. Statutory and Executive Order Reviews

Executive Order 12630—Governmental Actions and Interference With Constitutionally Protected Property Rights

This rule would not result in a taking of private property or otherwise have taking implications that would result in private property being taken for government use without just compensation under the law. Therefore, a takings implication assessment is not required. This determination is based on an analysis of the corresponding Federal regulations.

Executive Orders 12866—Regulatory Planning and Review and 13563—Improving Regulation and Regulatory Review

Executive Order 12866 provides that the Office of Information and Regulatory Affairs in the Office of Management and Budget (OMB) will review all significant rules. Pursuant to OMB guidance dated October 12, 1993 (OMB Memo M-94-3), the approval of State program amendments is exempted from OMB review under Executive Order 12866.

Executive Order 12988—Civil Justice Reform

The Department of the Interior has reviewed this rule as required by section 3 of Executive Order 12988. The Department determined that this Federal Register document meets the criteria of section 3 of Executive Order 12988. Section 3 is intended to ensure that the agency review its legislation and proposed regulations to eliminate drafting errors and ambiguity; that the agency write its legislation and regulations to minimize litigation; and that the agency's legislation and regulations provide a clear legal standard for affected conduct rather than a general standard, and promote simplification and burden reduction.

Because section 3 focuses on the quality of Federal legislation and regulations, the Department limited its review under this Executive Order to the quality of this Federal Register document and to changes to the Federal regulations. The review under this Executive Order did not extend to the language of the State regulatory program or to the program amendment that the State of Ohio drafted.

Executive Order 13132—Federalism

This rule has potential Federalism implications as defined under section 1(a) of Executive Order 13132. Executive Order 13132 directs agencies to “grant the States the maximum administrative discretion possible” with respect to Federal statutes and regulations administered by the States. Ohio, through its approved regulatory program, implements and administers SMCRA and its implementing regulations at the State level. This rule approves an amendment to the Ohio program submitted and drafted by the State, and thus is consistent with the direction to provide maximum administrative discretion to States.

Executive Order 13175—Consultation and Coordination With Indian Tribal Governments

The Department of the Interior strives to strengthen its government-to-government relationship with Tribes through a commitment to consultation with Tribes and recognition of their right to self-governance and tribal sovereignty. We have evaluated this rule under the Department's consultation policy and under the criteria in Executive Order 13175 and have determined that it has no substantial direct effects on the distribution of power and responsibilities between the Federal Government and Tribes.

The basis for this determination is that our decision on the Ohio program does not include Indian lands as defined by SMCRA or other Tribal lands and does not affect the regulation of activities on Indian lands or other Tribal lands. Indian lands under SMCRA are regulated independently under the applicable Federal Indian program. The Department's consultation policy also acknowledges that our rules may have Tribal implications where the State proposing the amendment encompasses ancestral lands in areas with mineable coal. This amendment relates to information collected by Ohio about a registered agent in a permit application and would not affect any lands; therefore, we have concluded that no consultation based on ancestral lands is necessary.

Executive Order 13211—Actions Concerning Regulations That Significantly Affect Energy Supply, Distribution, or Use

Executive Order 13211 requires agencies to prepare a statement of energy effects for a rulemaking that is (1) considered significant under Executive Order 12866, and (2) likely to have a significant adverse effect on the supply, distribution, or use of energy. Because this rule is exempt from review under Executive Order 12866 and is not a significant energy action under the definition in Executive Order 13211, a statement of energy effects is not required.

National Environmental Policy Act

Consistent with sections 501(a) and 702(d) of SMCRA (30 U.S.C. 1251(a) and 1292(d), respectively) and the Department of the Interior's Departmental Manual, part 516, section 13.5(A), State program amendments are not major Federal actions within the meaning of section 102(2)(C) of the National Environmental Policy Act (42 U.S.C. 4332(2)(C)).

Paperwork Reduction Act

This rule does not include requests and requirements of an individual, partnership, or corporation to obtain information and report it to a Federal agency. As this rule does not contain information collection requirements, a submission to the Office of Management and Budget under the Paperwork Reduction Act (44 U.S.C. 3501 et seq.) is not required. This rule does allow Ohio to reduce its information collection requirements consistent with the existing Federal requirements.

Regulatory Flexibility Act

This rule will not have a significant economic impact on a substantial number of small entities under the Regulatory Flexibility Act (5 U.S.C. 601 et seq.). The State submittal, which is the subject of this rule, is based upon corresponding Federal regulations for which an economic analysis was prepared and certification made that such regulations would not have a significant economic effect upon a substantial number of small entities. In making the determination as to whether this rule would have a significant economic impact, the Department relied upon the data and assumptions for the corresponding Federal regulations.

Congressional Review Act

This rule is not a major rule under 5 U.S.C. 804(2). This rule: (a) does not have an annual effect on the economy of $100 million; (b) will not cause a major increase in costs or prices for consumers, individual industries, Federal, State, or local government agencies, or geographic regions; and (c) does not have significant adverse effects on competition, employment, investment, productivity, innovation, or the ability of U.S.-based enterprises to compete with foreign-based enterprises. This determination is based on an analysis of the corresponding Federal regulations, which were determined not to constitute a major rule.

Unfunded Mandates Reform Act

This rule does not impose an unfunded mandate on State, local, or Tribal governments, or the private sector of more than $100 million per year. The rule does not have a significant or unique effect on State, local, or Tribal governments or the private sector. This determination is based on an analysis of the corresponding Federal regulations, which were determined not to impose an unfunded mandate. Therefore, a statement containing the information required by the Unfunded Mandates Reform Act (2 U.S.C. 1531 et seq.) is not required.

List of Subjects in 30 CFR Part 935

Intergovernmental relations, Surface mining, Underground mining.

Ben Owens,
Acting Regional Director, Interior Regions 1 & 2.

For the reasons set out in the preamble, 30 CFR part 935 is amended as set forth below:

PART 935—OHIO

1. The authority citation for part 935 continues to read as follows:

Authority: 30 U.S.C. 1201 et seq.

2. Section 935.15 is amended in the table by adding a new entry in chronological order by “Date of final publication” to read as follows:

§ 935.15 Approval of Ohio regulatory program amendments.

* * * * *

Original amendment submission date | Date of final publication | Citation/description
|  | OAC 1501:13-4-03(B)(1), (B)(4).
* * * * * * *
January 8, 2021 | November 17, 2025

[FR Doc. 2025-20019 Filed 11-14-25; 8:45 am]

BILLING CODE 4310-05-P